DEPARTMENT OF COMMERCE

Census Bureau

Special Census Program

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 26, 2002.

ADDRESSES: Direct all written comments to Madeleine Clayton, Departmental Paperwork Clearance Officer, Department of Commerce, Room 6086, 14th and Constitution Avenue, NW., Washington, DC, 20230 (or via the Internet at mclayton@doc.gov).

FOR FURTHER INFORMATION CONTACT: Requests for additional information or copies of the information collection instrument(s) and instructions should be directed to J. Michael Stump or Josephine Ruffin, Bureau of the Census, Room Number 1314, Building #2, Washington, DC, 20746 and 301-457-1429.

SUPPLEMENTARY INFORMATION:

I. Abstract

The Special Census Program is a reimbursable service offered and performed by the Census Bureau for the government of any state; county, city, or other political subdivision within a state; for the government of the District of Columbia; and for the government of any possession or area over which the U.S. exercises jurisdiction, control, or sovereignty, and other governmental units which require current population data between decennial censuses.

Many states distribute funds based on current population statistics. In addition, special census data are used by the local jurisdictions to plan new schools, transportation systems, housing programs, and water treatment facilities.

The Census Bureau will use the following forms to update addresses listed on the Census Bureau's Master Address File and to enumerate populations in special censuses:

• Special Census Enumerator Questionnaire—This interview form will be used to collect special census data at regular housing units (Hus).

• Special Census Special Place Questionnaire—This interview form will be used to collect special census data at group quarters in special places such as hospitals, prisons, boarding and rooming houses, campgrounds, hotels, college dormitories, military facilities, and convents.

• Address Listing Page—This page will include existing addresses from the Census Bureau Master Address File (MAF). Special Census enumerators will update these addresses, if needed, at the time of enumeration.

• Group Quarters Enumeration Control Sheet—This page will be used by Special Census enumerators to list residents/clients at group quarters.

• Housing Unit Add Page—This page will be used by enumerators to add HUs that are observed to exist on the ground and that are not contained on the address listing page.

• Special Place/Group Quarter (SP/GQ) Add Page—This page will be used by enumerators to add special places/group quarters that are observed to exist on the ground and that are not reflected in the address listing page.

The Special Census Program developmental process is in its early stages. Meetings and other planning discussions may require minor changes to the design and content of the forms.

The Special Census Program will operate as a generic OMB clearance including a library of forms and the operational procedures that will be used for the many special censuses we anticipate conducting this decade. The Census Bureau will establish a reimbursable agreement with a variety of potential special census customers that are unknown at this time. Prior to conducting any special census, the Census Bureau will submit documentation to OMB providing the details of the Special Census under consideration. We will also submit for OMB's review and approval, under cover of a change worksheet, any special-purpose questions requested by customers to be added to special census questionnaires.

II. Method of Collection

The Special Census Program will use the Census 2000 Update/Enumerate (U/E) methodology. Enumerators will canvass their assigned areas with an address register that contains addresses obtained from the Census Bureau's Master Address File. Special Census enumerators will update the address information, as needed, based on their observation of HUs and/or SPs/GQs that exist on the ground. Additionally, enumerators will interview households at regular HUs and residents at GQs using the appropriate Special Census questionnaire.

III. Data

OMB Number: None.

Form Number: Not available yet.

Type of Review: Regular.

Affected Public: Individuals or households, business or other for profit entities, not-for-profit institutions.

Estimated Number of Respondents: (September 2002 through early 2008).

Enumerator Questionnaire—848,000 respondents.

Special Place Questionnaire—2000 respondents.

Address Listing Page—848,000 respondents.

Group Quarters Enumeration Control Sheet—375 respondents.

Housing Unit Add Page—1,000 respondents

Special Place/Group Quarters Add Page—150 respondents

Estimated Time Per Response:

Enumerator Questionnaire—about 7 minutes

Special Place Questionnaire—about 5 minutes

Address Listing Page—about one minute

Group Quarters Enumeration Control Sheet—10 minutes

Housing Unit Add Page—about one minute

Special Place/Group Quarters Add Page—about one minute

Estimated Total Annual Burden Hours: Estimated total annual burden hours are 113,527.

Estimated Total Annual Cost: There are no costs to respondents other than that of their time to respond.

Respondent's Obligation: Voluntary.

Legal Authority: Title 13, United States Code, Section 196.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 20, 2001.
Madeleine Clayton,
Departmental Paperwork Clearance Officer, Office of the Chief Information Officer.

[FR Doc. 01-31856 Filed 12-27-01; 8:45 am]

BILLING CODE 3510-07-P